ENVIRONMENTAL PROTECTION AGENCY

40 CFR Part 52

[EPA-R05-OAR-2025-0232; FRL-12930-01-R5]

Air Plan Approval; Ohio; Volatile Organic Compounds RFD Beaufort

AGENCY: Environmental Protection Agency (EPA).

ACTION: Proposed rule.

SUMMARY: The Environmental Protection Agency (EPA) is proposing to approve a May 2, 2025, State Implementation Plan (SIP) submittal from the Ohio Environmental Protection Agency (Ohio EPA). The SIP submittal consists of an alternate control technology emission limit of 5.9 pounds of volatile organic compounds per gallon (lbs VOC/gallon) for RFD Beaufort, Inc.'s life raft manufacturing plant at 1420 Wolf Creek Trail, Wadsworth, Ohio. This limit applies to the facility's nylon reinforced polyurethane adhesive process. The limitation is established through the Ohio SIP for control of emissions of volatile organic compounds (VOCs) from stationary sources and is listed as an enforceable condition in the facility's operating permit, issued by Ohio EPA on March 25, 2025.

DATES: Comments must be received on or before October 27, 2025.

ADDRESSES: Submit your comments, identified by Docket ID No. EPA-R05-OAR-2025-0232 at https://www.regulations.gov, or via email to langman.michael@epa.gov. For comments submitted at Regulations.gov, follow the online instructions for submitting comments. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Tyler Salamasick, Air and Radiation Division (AR18J), Environmental Protection Agency, Region 5, 77 West Jackson Boulevard, Chicago, Illinois 60604, (312) 886-6206, salamasick.tyler@epa.gov. The EPA Region 5 office is open from 8:30 a.m. to 4:30 p.m., Monday through Friday, excluding Federal holidays.

SUPPLEMENTARY INFORMATION: Throughout this document whenever “we,” “us,” or “our” is used, we mean EPA.

I. What is the background for this action?

On May 2, 2025, Ohio EPA requested concurrence and approval of a director-approved VOC alternate control technology emissions limitation for adhesive use at RFD Beaufort's life raft manufacturing plant located at 1420 Wolf Creek Trail, Wadsworth, Ohio. The Ohio SIP contains VOC emission control requirements for adhesives under Ohio Administrative Code (OAC) rule 3745-21-28.

RFD Beaufort contends that the potentially applicable category for its polyurethane coated nylon fabric adhesive process was “sheet-applied rubber installation” with a corresponding VOC content limit of 7.1 lbs VOC/gal (minus water and exempt solvents). Ohio EPA reviewed the definition of “sheet-applied rubber installation” in OAC rule 3745-21-01(II)(46) and determined that this was not an appropriate category for this application and that the facility needs an alternate limit. Ohio is proposing to add a new source-specific limit rather than applying the general “adhesive to substrate” limitation. Additional information regarding Ohio's review can be found in the May 2, 2025, supplemental information submitted with the alternate control requirements request.

RFD Beaufort's current adhesive has a VOC content of 5.92 lbs VOC/gal (minus water and exempt solvents). RFD Beaufort reviewed other adhesive options and asserts that no other adhesive has passed the performance specifications required for life-saving devices. RFD Beaufort evaluated alternative controls and determined that it is not technically or economically feasible to install controls on these processes.

OAC rule 3745-21-28(C)(4) allows for an alternative category to be established if EPA approves the alternative limitation as a revision to the Ohio SIP. Ohio EPA requests that EPA approve portions of the Final Permit-to-Install and Operate (P0127562), issued to RFD Beaufort on March 25, 2025, as a revision to the SIP to make them federally enforceable and fulfill the requirements of OAC rule 3745-21-28(C)(4). The requested portions include permit condition C.1.b)(1)c., which establishes the adhesive material VOC limit, and condition C.1.b)(2)c., which establishes associated monitoring, recordkeeping and reporting requirements.¹

¹ On August 7, 2025, Ohio EPA provided EPA with additional clarification stating that it submitted a typo requesting EPA approve emission unit condition C.2.b)(2)c. into the SIP. Instead, Ohio EPA requests that EPA approve emission unit condition C.1.b)(2)c. in permit no. P0127562.

Ohio EPA provided an opportunity for public comment on the draft permit and opened a public comment period, which closed on February 14, 2025. Ohio EPA did not receive any comments on the alternate limit. The final March 25, 2025, Permit-to-Install and Operate (P0127562) is included with Ohio's SIP submittal and as part of the docket for this rulemaking action.

II. What is EPA's analysis of the source-specific VOC limit?

EPA reviewed Ohio's assessment of the RFD Beaufort alternative controls and agrees with their determination that it is not technically or economically feasible to install added controls on these processes as demonstrated by their actual emissions. An alternative emissions limitation is appropriate for RFD Beaufort. The facility's process is unique and does not clearly fall under one of the specific limits listed in Ohio's rules. A source specific limit would reasonably limit emissions from their process. This new limit would be consistent with their current adhesive, which has a VOC content of 5.92 lbs VOC/gal (minus water and exempt solvents). The permit conditions, which EPA proposes to approve into Ohio's SIP, impose a limit of 5.9 lbs VOC/gal on RFD Beaufort along with relevant monitoring, recordkeeping, and reporting requirements.²

² Ohio's VOC limitation standards in OAC rule 3745-21-28 are calculated to two significant digits. RFD Beaufort's adhesive VOC content of 5.92 lbs VOC/gal would comply with a 5.9 lbs VOC/gal limit.

This SIP revision does not include the relaxation of any existing requirements. EPA determines that this revision, if approved, will not interfere with any Clean Air Act (CAA) applicable requirement as required by CAA section 110(l). The alternate control technology emissions limitation for RFD Beaufort in OAC rule 3745-21-28 is a limit established under the rule consistent with the current VOC content of the coating utilized by the facility.

III. What action is EPA taking?

EPA is proposing to approve the alternative emissions limitation for Emission Unit Group 1: R001, R002, R003, R004, R005, R006, R007, R008, R009, R010 by approving permit conditions C.1.b)(1)c. and C.1.b)(2)c. into the Ohio SIP as listed in the March 25, 2025, final permit to install and operate (P0127562).

IV. Incorporation by Reference

In this rulemaking, EPA is proposing to include in a final EPA rule regulatory text that includes incorporation by reference. In accordance with requirements of 1 CFR 51.5, EPA is proposing to incorporate by reference Ohio Division of Air Pollution Control Permit-to-Install for RFD Beaufort (Facility ID 1652080002), issued on March 25, 2025, as described in section III of this preamble. EPA has made, and will continue to make, these documents generally available through www.regulations.gov and at the EPA Region 5 Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Ozone, Volatile organic compounds.

Dated: September 15, 2025.
Anne Vogel,
Regional Administrator, Region 5.

[FR Doc. 2025-18652 Filed 9-24-25; 8:45 am]

BILLING CODE 6560-50-P